DEPARTMENT OF AGRICULTURE

Farm Service Agency

Temporary Storage for Rice and Soybean Warehouse Operators Licensed Under the United States Warehouse Act (USWA)

AGENCY: Farm Service Agency, USDA.

ACTION: Notice.

SUMMARY: The Farm Service Agency (FSA) announces the conditions under which temporary storage space for the 2006 crops of rice and soybeans may be licensed under the United States Warehouse Act (USWA).

DATES: October 4, 2006.

FOR FURTHER INFORMATION: Contact Roger Hinkle, USWA Program Manager, USDA, Farm Service Agency, Warehouse and Inventory Division, 1400 Independence Avenue, SW., STOP 0553, Washington, DC 20250-0553; telephone (202) 720-7433; electronic mail: Roger.Hinkle@wdc.usda.gov. Persons with disabilities who require alternative means for communication for regulatory information (Braille, large print, audiotape, etc.) should contact USDA's TARGET Center at (202) 720-2600 (voice and TDD).

SUPPLEMENTARY INFORMATION:

Background

Because the 2006 crop harvest is expected to exceed available commercial storage space in certain areas, FSA has taken actions to ensure adequate availability of storage space at harvest for producers seeking warehouse-stored marketing assistance loans for grain. As a result, FSA and the Commodity Credit Corporation published notices in the Federal Register on July 3, 2006 (71 FR 37889), and August 14, 2006 (71 FR 46446), allowing USWA grain licensees to request the licensing of emergency and temporary storage space under the USWA (7 U.S.C. 241 et seq.) for wheat, corn and other feed grains under certain conditions. Grain stored in emergency storage space must be removed no later than March 31, 2007, and grain stored in temporary storage space must be removed no later than July 1, 2007. Since the publication of those notices, FSA has received requests from USWA licensees to store rice in temporary storage space and soybeans in both emergency and temporary storage space.

Because soybeans are more susceptible to weather, infestation, and other deteriorating conditions than bulk grains, soybeans are not approved for emergency storage space. FSA will allow licensing of temporary storage space for 2006-crop rice and soybeans under the following terms and conditions:

Temporary Storage Requirements

Such space may be used from the time of initial licensing until March 31, 2007. Temporary storage structures must be operated in conjunction with a USWA-licensed warehouse. In addition:

1. An asphalt, concrete, or other approved base material must be used.

2. Rigid self-supporting sidewalls must be used.

3. Aeration must be provided.

4. Acceptable covering, as determined by FSA, must be provided.

5. The Commodity must be fully insured for all losses.

6. Warehouse operators must meet all financial and bonding requirements of the USWA.

7. Warehouse operators must maintain a separate record of all rice and soybeans stored in temporary grain storage space and must account for rice and soybeans in the Daily Position Record.

Application for Temporary Rice and Soybean Storage

USWA licensees should direct questions regarding the use of temporary rice and soybean storage to Terry Chapman, Chief, Licensing Branch, Warehouse License and Examination Division, at: Kansas City Commodity Office, Mail Stop 9148, P.O. Box 419205 Kansas City, MO 64141-6205, telephone: 816-926-6474; facsimile: 816-926-1774. E-mail: terry.chapman@kcc.usda.gov.

Warehouse Operator's Liability

The authorization and licensing of temporary storage space does not relieve warehouse operators of their obligations under the USWA. Warehouse operators are responsible for the quantity and quality of rice and soybeans stored in temporary storage space to the same extent as their liability for licensed storage space. All rice and soybeans stored in temporary storage space is considered a part of the warehouse operator's commingled inventory. The Department of Agriculture strongly recommends that warehouse operators review their warehouse security plans and conduct a prudent risk assessment in connection with the application of temporary storage space. Warehouse operators may want to pay particular attention to threats that may not have been considered significant in the past and consider restricting access to facilities to authorized personnel only.

Signed in Washington, DC, on September 29, 2006.
Teresa C. Lasseter,
Administrator, Farm Service Agency.

[FR Doc. 06-8490 Filed 9-29-06; 3:23 pm]

BILLING CODE 3410-05-P